DEPARTMENT OF ENERGY

Federal Energy Regulatory Commission

[Docket No. ER00-3168-002, et al.]

Conectiv Delmarva Generation, Inc., et al.; Electric Rate and Corporate Regulation Filings

October 12, 2000.

Take notice that the following filings have been made with the Commission:

1. Conectiv Delmarva Generation, Inc.

[Docket No. ER00-3168-002]

Take notice that on October 6, 2000, Conectiv, on behalf on Conectiv Delmarva Generation, Inc., tendered for filing additional rate schedule pages in compliance with the Commission's letter order dated September 12, 2000 in Conectiv Delmarva Generation, Inc., Docket Nos. ER00-3168-000 and ER00-3168-001.

Conectiv has served copies of this filing to persons on the official service list in Docket Nos. ER00-3168-000 and ER00-3168-001 and the parties to the agreements affected by this filing.

Comment date: October 27, 2000, in accordance with Standard Paragraph E at the end of this notice.

2. NEO Chester-Gen LLC, NEO Toledo-Gen LLC, NEO Freehold-Gen LLC

[Docket No. ER01-59-000]

Take notice that on October 6, 2000, NEO Chester-Gen LLC, NEO Toledo-Gen LLC and NEO Freehold-Gen LLC tendered for filing under each company's market-based rate tariff a long-term service agreement with NRG Power Marketing, Inc.

Comment date: October 27, 2000, in accordance with Standard Paragraph E at the end of this notice.

3. Consumers Energy Company

[Docket No. ER01-60-000]

Take notice that on October 6, 2000, Consumers Energy Company (Consumers), tendered for filing executed Firm and Non-Firm Point to Point Transmission Service Agreements with H.Q. Energy Services (U.S.) Inc. (Customer), pursuant to the Joint Open Access Transmission Service Tariff filed on December 31, 1996 by Consumers and The Detroit Edison Company (Detroit Edison).

The agreements have effective dates of October 4, 2000.

Copies of the filed agreement were served upon the Michigan Public Service Commission, Detroit Edison, and the Customer.

Comment date: October 27, 2000, in accordance with Standard Paragraph E at the end of this notice.

4. Entergy Services, Inc.

[Docket No. ER01-61-000]

Take notice that on October 6, 2000, Entergy Services, Inc., on behalf of Entergy Mississippi, Inc., tendered for filing an Interconnection and Operating Agreement with Duke Energy Hinds, LLC (Duke-Hinds), and a Generator Imbalance Agreement with Duke-Hinds.

Comment date: October 27, 2000, in accordance with Standard Paragraph E at the end of this notice.

5. Entergy Services, Inc.

[Docket No. ER01-62-000]

Take notice that on October 6, 2000, Entergy Services, Inc., on behalf of Entergy Mississippi, Inc., tendered for filing an Interconnection and Operating Agreement with LSP Pike Energy, LLC (LSP-Pike) for LSP-Pike's facility to be located near Holmesville, Mississippi, and a Generator Imbalance Agreement with LSP-Pike.

Comment date: October 27, 2000, in accordance with Standard Paragraph E at the end of this notice.

6. Entergy Services, Inc.

[Docket No. ER01-63-000]

Take notice that on October 6, 2000, Entergy Services, Inc., on behalf of Entergy Mississippi, Inc., tendered for filing an Interconnection and Operating Agreement with Duke Energy Attala, LLC (Duke-Attala), and a Generator Imbalance Agreement with Duke-Attala.

Comment date: October 27, 2000, in accordance with Standard Paragraph E at the end of this notice.

7. Constellation Power Source, Inc.

[Docket No. ER01-64-000]

Take notice that on October 6, 2000, Constellation Power Source, Inc. (CPS), 111 Market Street, Suite 500, Baltimore, Maryland 21202 tendered for filing revisions to its market-based rate schedule, FERC Rate Schedule No. 11, providing for the resale of firm transmission rights.

Comment date: October 27, 2000, in accordance with Standard Paragraph E at the end of this notice.

8. Deseret Generation and Transmission Co-operative, Inc.

[Docket No. ER01-65-000]

Take notice that on October 6, 2000, Deseret Generation & Transmission Co-operative, Inc. (Deseret), tendered for filing an executed Confirmation Agreement for a firm power sale between Deseret and Utah Associated Municipal Power Systems (UAMPS). This Confirmation Agreement is filed pursuant to the Western Systems Power Pool Agreement regarding a long-term power purchase and sale transaction.

Deseret requests an effective date of October 1, 2000.

Comment date: October 27, 2000, in accordance with Standard Paragraph E at the end of this notice.

9. Pacific Gas and Electric Company

[Docket No. ER01-66-000]

Take notice that on October 6, 2000, Pacific Gas and Electric Company (PG&E), tendered for filing proposed changes in its Transmission Owner Tariff (TO Tariff) and Cost Support for PG&E specific rates associated with the TO Tariff.

This filing proposes changes to PG&E's transmission access charges, which are calculated in accordance with the rate methodology set forth in PG&E's TO Tariff. PG&E provides cost support for PG&E's proposed transmission access charges. Copies of this filing have been served upon the CPUC and the California Independent System Operator Corporation.

PG&E requests that its filing be made effective upon the end of the 60-day prior notice period specified in Section 35.3 (18 CFR 35.3).

Comment date: October 27, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-26679 Filed 10-17-00; 8:45 am]

BILLING CODE 6717-01-P